DEPARTMENT OF ENERGY

Federal Energy Regulatory Commission

Combined Notice of Filings

Take notice that the Commission has received the following Natural Gas Pipeline Rate and Refund Report filings:

Filings Instituting Proceedings

Docket Numbers: RP25-971-000.

Applicants: Chesapeake Utilities Corporation—Maryland Division, Chesapeake Utilities of Maryland, Inc.

Description: Joint Petition for Limited Waiver of Capacity Release Regulations, et al. of Chesapeake Utilities Corporation—Maryland Division.

Filed Date: 6/25/25.

Accession Number: 20250625-5181.

Comment Date: 5 p.m. ET 7/7/25.

Docket Numbers: RP25-975-000.

Applicants: EQT Energy, LLC, Olympus Energy LLC.

Description: Joint Petition for Limited Waiver of Capacity Release Regulations, et al. of EQT Energy, LLC, et al.

Filed Date: 6/27/25.

Accession Number: 20250627-5190.

Comment Date: 5 p.m. ET 7/9/25.

Docket Numbers: RP25-976-000.

Applicants: Chesapeake Utilities Corporation—Maryland Division, Chesapeake Utilities of Maryland, Inc.

Description: Joint Petition for Temporary Waivers of Capacity Release Regulations, et al. of Chesapeake Utilities Corporation—Maryland Division, et al.

Filed Date: 6/27/25.

Accession Number: 20250627-5245.

Comment Date: 5 p.m. ET 7/9/25.

Docket Numbers: RP25-977-000.

Applicants: Kern River Gas Transmission Company.

Description: § 4(d) Rate Filing: 2025 June Negotiated TSA Filing to be effective 7/1/2025.

Filed Date: 6/30/25.

Accession Number: 20250630-5061.

Comment Date: 5 p.m. ET 7/14/25.

Docket Numbers: RP25-978-000.

Applicants: Roaring Fork Interstate Gas Transmission, LLC.

Description: Compliance filing: Cost and Revenue Study re CP21-462-000 to be effective N/A.

Filed Date: 6/30/25.

Accession Number: 20250630-5077.

Comment Date: 5 p.m. ET 7/14/25.

Docket Numbers: RP25-979-000.

Applicants: Alliance Pipeline L.P.

Description: § 4(d) Rate Filing: Negotiated Rates—Releases 07-01-2025 to be effective 7/1/2025.

Filed Date: 6/30/25.

Accession Number: 20250630-5083.

Comment Date: 5 p.m. ET 7/14/25.

Docket Numbers: RP25-980-000.

Applicants: Columbia Gas Transmission, LLC.

Description: § 4(d) Rate Filing: Neg Rate Agmt—Citadel 320403 Eff 7.1.25 to be effective 7/1/2025.

Filed Date: 6/30/25.

Accession Number: 20250630-5087.

Comment Date: 5 p.m. ET 7/14/25.

Docket Numbers: RP25-981-000.

Applicants: El Paso Natural Gas Company, L.L.C.

Description: § 4(d) Rate Filing: Negotiated Rate Agreements Update (Pioneer July-Oct 2025) to be effective 7/1/2025.

Filed Date: 6/30/25.

Accession Number: 20250630-5105.

Comment Date: 5 p.m. ET 7/14/25.

Docket Numbers: RP25-982-000.

Applicants: Texas Eastern Transmission, LP.

Description: § 4(d) Rate Filing: TETLP EPC AUG 2025 FILING to be effective 8/1/2025.

Filed Date: 6/30/25.

Accession Number: 20250630-5106.

Comment Date: 5 p.m. ET 7/14/25.

Docket Numbers: RP25-983-000.

Applicants: El Paso Natural Gas Company, L.L.C.

Description: § 4(d) Rate Filing: Negotiated Rate Agreement Update (Hartree July 25) to be effective 7/1/2025.

Filed Date: 6/30/25.

Accession Number: 20250630-5109.

Comment Date: 5 p.m. ET 7/14/25.

Docket Numbers: RP25-984-000.

Applicants: NEXUS Gas Transmission, LLC.

Description: § 4(d) Rate Filing: Negotiated Rates—Various Releases eff 7-1-2025 to be effective 7/1/2025.

Filed Date: 6/30/25.

Accession Number: 20250630-5111.

Comment Date: 5 p.m. ET 7/14/25.

Docket Numbers: RP25-985-000.

Applicants: El Paso Natural Gas Company, L.L.C.

Description: § 4(d) Rate Filing: Negotiated Rate Agreement Update (Sempra July 2025) to be effective 7/1/2025.

Filed Date: 6/30/25.

Accession Number: 20250630-5113.

Comment Date: 5 p.m. ET 7/14/25.

Docket Numbers: RP25-986-000.

Applicants: El Paso Natural Gas Company, L.L.C.

Description: § 4(d) Rate Filing: Negotiated Rate Agreement Update (EcoEnergy #612617 July—Sep 25) to be effective 7/1/2025.

Filed Date: 6/30/25.

Accession Number: 20250630-5117.

Comment Date: 5 p.m. ET 7/14/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 30, 2025.
Carlos D. Clay,
Deputy Secretary.

[FR Doc. 2025-12458 Filed 7-2-25; 8:45 am]

BILLING CODE 6717-01-P